DEPARTMENT OF ENERGY

Federal Energy Regulatory Commission

[Docket No. CP01-42-000]

Columbia Gas Transmission Corporation; Notice of Application

December 11, 2000.

On November 30, 2000, Columbia Gas Transmission Corporation (Columbia), P.O. Box 1273, Charleston, West Virginia 25325-1273, filed an application in Docket No. CP01-42-000 pursuant to Section 7(b) of the Natural Gas Act (NGA) and Section 157.18 of the Commission's Regulations for permission and approval to abandon by sale to Nicole Gas Production, LTD (Nicole), an Ohio limited liability company, certain natural gas facilities in West Virginia and Pennsylvania (Facilities) and authorization to abandon the related service associated with the Facilities, all as more fully set forth in the application which is on file with the commission and open to public inspection. The filing may be viewed at http://www.ferc.fed.us/online/rims.htm (call 202-208-2222 for assistance).

Columbia states that the Facilities to be sold to Nicole were certificated by the Commission as transmission and storage facilities, which were constructed and operated as part of a low pressure transmission system that transported locally produced gas to Columbia's mainline for system supply and redelivery to various markets. Also included in the proposed sale is Columbia's Holbrook Storage Field. Holbrook was constructed in 1950. Columbia does not propose the separate sale of base gas in connection with the proposed sale since it has determined that the recovery of remaining base gas is such a small volume (approximately 1 Bcf) that it is economically unrecoverable. In lieu of Columbia filing a separate Section 4 filing, Columbia ask that the Commission waive its requirement and accept the information provided within the application in Exhibits Z-2 and Z-3 as its notice to terminate service.

Columbia and Nicole entered into a Purchase and Sale Agreement dated September 27, 2000 for the Facilities. Columbia will also sell Nicole various non-jurisdictional facilities (known as the CHEWP System) that the Commission approved for sale in Docket No. CP97-127-000,¹ as well as an additional 23.24 miles of 2- to 16-inch pipeline which was not part of the CP97-127-000 proceeding. The Facilities will be sold for a negotiated amount of $3,655,00. Nicole has advised Columbia that it intends to operate the Facilities as gathering facilities and to use the Facilities primarily for production and gathering activities. Columbia seeks such authorization on or before May 1, 2001.

¹ 79 FERC ¶ 61,045 (1997).

According to Columbia, Nicole will assume the obligation to continue operating the Facilities, providing both firm and interruptible service to Columbia's customers receiving service through the Facilities on the date of closing, on terms and conditions acceptable to both Nicole and the customers, as well as to the mainline tap consumers of Columbia Gas of Pennsylvania and Mountaineer Gas Company. Thus, there will be no material change to, or interruption in, the services currently being provided to customers through the Facilities. Columbia does not propose any construction or facility removal in connection with the proposed abandonment.

Questions regarding the details of this proposed abandonment should be directed to Victoria J. Hamilton, Certificate Coordinator, Columbia Gas Transmission Corporation, P.O. Box 1273, Charleston, West Virginia 25325-1273, call (304) 357-2297.

There are two ways to become involved in the Commission's review of this abandonment. First, any person wishing to obtain legal status by becoming a party to the proceedings for this abandonment should, on or before January 2, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administration Law Judge, the Commission will issue another notice describing that process. At the end of the Commission's review process, a final Commission order approving or denying abandonment will be issued.

David P. Boergers,
Secretary.

[FR Doc. 00-31971 Filed 12-14-00; 8:45 am]

BILLING CODE 6717-01-M